DEPARTMENT OF LABOR

Employment and Training Administration

[NAFTA-3921]

Mid-American Electro-Cords, Riblet Products Corporation, Middlebury, Indiana; Notice of Termination of Investigation

Pursuant to Title V of the North American Free Trade Agreement Implementation Act (Pub. L. 103-182) concerning transitional adjustment assistance, hereinafter called NAFTA-TAA and in accordance with Section 250(a), Subchapter D, Chapter 2, Title II, of the Trade Act of 1974, as amended (19 USC 2331), an investigation was initiated on May 18, 2000, in response to a petition filed on May 15, 2000 on behalf of workers at Mid-American Electro-Cords, Riblet Products Corporation, Middlebury, Indiana.

The petitioner has requested that the petition be withdrawn. Consequently, further investigation in this case would serve no purpose, and the investigation has been terminated.

Signed at Washington, DC, this 1st day of June, 2000.
Grant D. Beale,
Program Manager, Division of Trade Adjustment Assistance.

[FR Doc. 00-14471 Filed 6-7-00; 8:45 am]

BILLING CODE 4510-30-M